NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at Brown University, Proposal Review Panel for Materials Research #1203.

Dates & Times: Thursday, January 22, 2009, 2008; 7:30 a.m.-9:30 p.m.; Friday, January 23, 2009; 7:30 a.m.-4:30 p.m.

Place: Brown University, Providence, RI.

Type of Meeting: Part-open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the MRSEC at Brown University, Providence, RI.

Agenda:

Thursday, January 22, 2009

7:45 a.m.-9 a.m.: Closed—Executive Session.

9 a.m.-4:30 p.m.: Open—Review of the Brown MRSEC.

4:30 p.m.-6 p.m.: Closed—Executive Session.

6 p.m.-9 p.m.: Open—Poster Session and Dinner.

Friday January 23, 2009

8 a.m.-9 a.m.: Closed—Executive session.

9 a.m.-10:15 a.m.: Open—Review of the Brown MRSEC.

10:15 a.m.-3:30 p.m.: Closed—Executive Session, Draft and Review Report.

Reason for Closing: The work being reviewed may include information of a proprietary or confidential nature, including technical information; financial data, such as salaries and personal information concerning individuals associated with the proposals. These matters are exempt under 5 U.S.C. 552 b(c), (4) and (6) of the Government in the Sunshine Act.

December 2, 2008.
Susanne Bolton,
Committee Management Officer.

[FR Doc. E8-28802 Filed 12-4-08; 8:45 am]

BILLING CODE 7555-01-P